COMMITTEE FOR PURCHASE FROM PEOPLE WHO ARE BLIND OR SEVERELY DISABLED

Procurement List Additions and Deletions

AGENCY: Committee for Purchase From People Who Are Blind or Severely Disabled.

ACTION: Additions to and Deletions from Procurement List.

SUMMARY: This action adds to the Procurement List a product and services to be furnished by nonprofit agencies employing persons who are blind or have other severe disabilities, and deletes from the Procurement List products previously furnished by such agencies.

DATES: Effective Date: May 3, 2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 1/15/2010 (75 FR 2510) and 2/5/2010 (75 FR 5970-5971), the Committee for Purchase From People Who Are Blind or Severely Disabled published notices of proposed additions to the Procurement List.

The Committee for Purchase From People Who Are Blind or Severely Disabled (Committee) operates pursuant to statutory and regulatory requirements. Committee decisions regarding which items are suitable for addition to the Procurement List are specifically guided by 41 CFR Chapter 51. This regulation states that for a commodity or service to be suitable for addition to the Procurement List, each of the following criteria must be satisfied: Employment potential, nonprofit agency qualifications, capability, and level of impact on the current contractor for the commodity or service. In response to its Notice of Proposed Procurement List Addition, the Committee received comments from five parties relating to the fourth criterion, level of impact.

Comments were received from the incumbent contractor for the facilities management requirement at Fort Lewis, WA. The firm stated that addition of this service to the Procurement List is inconsistent with the Javits-Wagner-O'Day Act policy regarding contracts currently held within the SBA 8(a) Program. The firm stated that placing this service on the Procurement List would result in “severe adverse impact” and is thus not suitable for addition. The incumbent contractor also asserted that such an action would seem to be contrary to the Regulatory Flexibility Act as it relates to “small entities.”

The Committee has considered these comments. The Committee has documentation from the contracting activity showing that the Fort Lewis requirement awarded to the incumbent contractor was explicitly restricted to a one (1) year acquisition and was not permanently placed into the 8(a) Program. Under Committee procedures, this service is eligible for consideration to be added to the Procurement List. The financial information presented by the contractor and calculated according to Committee practice during its impact analysis did not indicate that it would result in “severe adverse impact” under Committee regulations at 41 CFR 51-2.4(a)(4). The contractor was notified of the preliminary determination that impact was not severe in April 2009. In light of this notification, coupled with the contracting activity's communication that the requirement would be limited to one year, the incumbent contractor could not have had a reasonable expectation of further awards or contract option years. The Committee continues to find the proposed action to be consistent with the Regulatory Flexibility Act (RFA) because the particular service being considered for addition to the Procurement List will be provided by qualified nonprofit agencies (or “small entities” under the RFA) employing people who are blind or with other significant disabilities.

Comments were also received from the South Carolina District Office of the Small Business Administration, the National Association of Small Disadvantaged Businesses, and two contractors who perform similar work at another Army installation. Their comments also raise the SBA 8(a) program issue and the negative impact of removing this project from the 8(a) Program.

The Committee has considered these comments. Information provided by the contracting activity states that the ongoing requirement at Fort Lewis was not permanently placed under the SBA 8(a) program and is eligible for consideration to be added to the Procurement List. The requirement for comparable services at McChord AFB is currently performed by a contractor that has graduated from the SBA 8(a) program. In accordance with Committee practice, the requirement is eligible for consideration to be added to the Procurement List at this juncture. The Committee's action will not affect the McChord AFB contractor's ability to continue to perform the services until expiration of its contract.

When passing the Javits-Wagner-O'Day Act, Congress understood the importance of using the federal procurement process as a means of providing employment opportunities for people who are blind or with other severe disabilities. The proposed addition of this project to the Procurement List will guarantee the creation of jobs for people with severe disabilities, a group whose unemployment rate has been estimated to be approaching 70%. Having reviewed all material information regarding the suitability of this project for the AbilityOne Program, the Committee has determined that the Joint Base Lewis-McChord facilities management service is suitable for addition to the Procurement List.

After consideration of the material presented to it concerning capability of qualified nonprofit agencies to provide a product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

NSN: 2090-00-372-6064—Repair Kit, Standard.

NPA: Mid-Valley Rehabilitation, Inc., McMinnville, OR.

Contracting Activity: Defense Logistics Agency, Defense Supply Center Columbus, Columbus, OH.

Coverage: C-List for the requirements for the Defense Supply Center Columbus, Columbus, OH.

Services

Service Type/Location: Base Supply Center, Defense Supply Center Columbus, 3990 E. Broad Street, Columbus, OH.

NPA: Associated Industries for the Blind, Milwaukee, WI.

Contracting Activity: Defense Logistics Agency, Defense Supply Center Columbus, Columbus, OH.

Service Type/Location: Facilities Management, First Sergeants Barracks, Joint Base Lewis-McChord, WA.

NPA: Professional Contract Services, Inc., Austin, TX.

Contracting Activity: Dept. of the Army, XR W6BA ACA, Mission and Installation Contracting Command, Ft. Lewis, WA.

Deletions

On 2/5/2010 (75 FR 5970-5971), the Committee for Purchase From People Who Are Blind or Severely Disabled published notice of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Inkjet Cartridge

NSN: 7510-01-544-0833

NSN: 7510-01-544-0819

NSN: 7510-01-539-9836

NSN: 7510-01-544-0836

NSN: 7510-01-544-0830

NSN: 7510-01-539-9837

NSN: 7510-01-544-0832

NSN: 7510-01-544-0820

NSN: 7510-01-539-9842

NSN: 7510-01-544-0835

NSN: 7510-01-544-0826

NSN: 7510-01-539-9838

NSN: 7510-01-544-0837

NSN: 7510-01-544-0825

NSN: 7510-01-539-9834

NSN: 7510-01-544-0823

NSN: 7510-01-544-0831

NSN: 7510-01-544-1733

NSN: 7510-01-544-0829

NSN: 7510-01-544-0839

NSN: 7510-01-544-0838

NSN: 7510-01-544-0827

NPA: Alabama Industries for the Blind, Talladega, AL.

Contracting Activity: GSA/FSS OFC SUP CTR—Paper Products, New York, NY

NSN: 6230-01-513-3265—Flashlight, Aluminum, 2D, Blue

NSN: 6230-01-513-3268—Flashlight, Aluminum, 2D, Red

NSN: 6230-01-513-3279—Flashlight, Aluminum, 4D, Red

NPA: Central Association for the Blind & Visually Impaired, Utica, NY.

Contracting Activity: GSA/FSS OFC SUP CTR—Paper Products, New York, NY.

Barry S. Lineback,
Director, Business Operations.

[FR Doc. 2010-7480 Filed 4-1-10; 8:45 am]

BILLING CODE 6353-01-P